FEDERAL COMMUNICATIONS COMMISSION

47 CFR Part 64

[CG Docket No. 02-278; FCC 04-204]

Rules and Regulations Implementing the Telephone Consumer Protection Act of 1991

AGENCY: Federal Communications Commission.

ACTION: Final rule; announcement of effective date.

SUMMARY: In this document, the Commission announces that the Office of Management and Budget (OMB) has approved for three years the information collections contained in the Commission's amended telemarketing rule at 47 CFR 64.1200(c)(2)(i)(D). FCC announces the effective date for § 64.1200(c)(2)(i)(D).

DATES: 47 CFR 64.1200(c)(2)(i)(D), published at 69 FR 60311, October 8, 2004, is effective January 1, 2005.

ADDRESSES: Federal Communications Commission, 445 12th Street, SW., Washington, DC 20554.

FOR FURTHER INFORMATION CONTACT: Erica H. McMahon at 202-418-2512, Consumer & Governmental Affairs Bureau, Erica.McMahon@fcc.gov.

SUPPLEMENTARY INFORMATION: On July 3, 2003, the Commission released a Report and Order, In the Matter of Rules and Regulations Implementing the Telephone Consumer Protection Act of 1991, published at 68 FR 44144, July 25, 2003. On September 29, 2003, OMB approved for three years the information collections contained in the Commission's telemarketing rules at section 64.1200. On September 21, 2004, the Commission released an Order, In the Matter of Rules and Regulations Implementing the Telephone Consumer Protection Act of 1991, published at 69 FR 60311, October 8, 2004, in which the Commission revised one of its telemarketing rules, 47 CFR 64.1200(c)(2)(i)(D), to require telemarketers to access the national registry every 31 days, rather than every 3 months in order to qualify for the safe harbor protections. The Commission publishes this notice of the effective date of the information collection requirement contained in 47 CFR 64.1200(c)(2)(i)(D). The information collection requirement was approved by OMB on December 21, 2004. OMB Control No. 3060-0519. If you have any comments on the burden estimates, or how we can improve the collection(s) and reduce the burden(s) they cause you, please write to Les Smith, Federal Communications Commission, Room 1-A804, 445 12th Street, SW., Washington, DC 20554. Please include the OMB Control Number, 3060-0519, in your correspondence. We will also accept your comments regarding the Paperwork Reduction Act aspects of the collections via the Internet, if you send them to Leslie.Smith@fcc.gov or call (202) 418-0217.

Synopsis

As required by the Paperwork Reduction Act of 1995 (44 U.S.C. 3507), the FCC is notifying the public that it received approval for three years from OMB on December 21, 2004 for the collection(s) of information contained in the Commission's amended telemarketing rule at 47 CFR 64.1200(c)(2)(i)(D). Due to the modification to 47 CFR 64.1200(c)(2)(i)(D), the revised annual reporting burden for this collection(s) of information, including the time for gathering and maintaining the collection of information, is estimated to be: 144,497 responses, a total annual hour burden of 1,851,600 hours, and $4,361,000 in total annual costs. Under 5 CFR 1320, an agency may not conduct or sponsor a collection of information unless it displays a current valid OMB Control Number. No person shall be subject to any penalty for failing to comply with a collection of information subject to the Paperwork Reduction Act (PRA) that does not display a valid OMB Control Number. The OMB Control Number is 3060-0519.

The foregoing notice is required by the Paperwork Reduction Act of 1995, Public Law 104-13, October 1, 1995, 44 U.S.C. 3507.

Federal Communications Commission.
Marlene H. Dortch,
Secretary.

[FR Doc. 04-28505 Filed 12-29-04; 8:45 am]

BILLING CODE 6712-01-P